ENVIRONMENTAL PROTECTION AGENCY

[ER-FRL-9007-9]

Environmental Impacts Statements; Notice of Availability

Responsible Agency: Office of Federal Activities, General Information (202) 564-7146 or http://www.epa.gov/compliance/nepa/.

Weekly receipt of Environmental Impact Statements

Filed 02/19/2013 Through 02/22/2013

Pursuant to 40 CFR 1506.9.

Notice

Section 309(a) of the Clean Air Act requires that EPA make public its comments on EISs issued by other Federal agencies. EPA's comment letters on EISs are available at: http://www.epa.gov/compliance/nepa/eisdata.html.

EIS No. 20130043, Final EIS, USAF, CA, F-15 Aircraft Conversion, 144th Fighter Wing, California Air National Guard, Fresno-Yosemite International Airport, Review Period Ends: 04/01/2013, Contact: Robert Dogan 240-612-8859.

EIS No. 20130044, Draft EIS, FHWA, NV,Pyramid Way and McCarran Boulevard Intersection Improvement Project, Comment Period Ends: 04/15/2013, Contact: Abdelmoez Abdalla 775-687-1231.

EIS No. 20130045, Draft EIS, USACE, 00, Update of the Water Control Manual for the Alabama-Coosa-Tallapoosa River Basin in Georgia and Alabama, Comment Period Ends: 05/01/2013, Contact: Lewis Sumner 251-694-3857.

EIS No. 20130046, Final EIS, FERC, CA,Middle Fork American River Project, Review Period Ends: 04/01/2013, Contact: Matt Buhyoff 202-502-6824.

EIS No. 20130047, Draft EIS, NPS, FL,Everglades National Park Draft General Management Plan/East Everglades Wilderness Study, Comment Period Ends: 04/15/2013, Contact: Eric Thuerk 303-987-6852.

EIS No. 20130048, Draft EIS, BOEM, 00,Gulf of Mexico OCS Oil and Gas Lease Sales: 2014 and 2016 Eastern Planning Area Lease Sales 225 and 226, Comment Period Ends: 04/15/2013, Contact: Gary D. Goeke (504) 736-3233.

Amended Notices

EIS No. 20120392, Draft EIS, USACE, 00, Lower Snake River Programmatic Sediment Management Plan, Washington and Idaho, Comment Period Ends: 03/26/2013, Contact: Sandra Shelin 509-527-7265.

Revision to FR Notice Published 12/21/2012; Extending Comment Period to 03/26/2013.

Dated: February 26, 2013.
Cliff Rader,
Director, NEPA Compliance Division, Office of Federal Activities.

[FR Doc. 2013-04797 Filed 2-28-13; 8:45 am]

BILLING CODE 6560-50-P